DEPARTMENT OF THE INTERIOR

Bureau of Land Management

[L14200000.BJ0000-LLNM915000-2009]

Notice of Withdrawal of Filing of Plat of Survey; New Mexico

AGENCY: Bureau of Land Management, Interior.

ACTION: Notice of withdrawal of filing of Plat of Survey.

SUMMARY: The plat of survey described below was scheduled to be officially filed in the New Mexico State Office, Bureau of Land Management (BLM), Santa Fe, New Mexico, 30 calendar days from the date of the publication in the Federal Register, Volume 72, No. 133, dated July 12, 2007, per BLM Manual 2097, Opening Orders.

The filing was stayed pending the outcome of a protest and appeal of the survey. The dependent resurvey has been remanded back to BLM and will not be officially filed.

SUPPLEMENTARY INFORMATION:

New Mexico Principal Meridian, New Mexico

The plat of survey being readdressed represents the dependent resurvey and survey for Townships 9 and 10 North, Range 4 East, New Mexico Principal Meridian, accepted June 20, 2007, for Group 1062 NM.

Robert A. Casias,
Chief Cadastral Surveyor.

[FR Doc. E9-1612 Filed 1-23-09; 8:45 am]

BILLING CODE 4310-FB-P